DEPARTMENT OF HEALTH AND HUMAN SERVICES

National Institutes of Health

National Cancer Institute; Amended Notice of Meeting

Notice is hereby given of a change in the meeting of the National Cancer Institute Special Emphasis Panel, July 30, 2013, 9:00 a.m.-4:00 p.m., National Cancer Institute, 9609 Medical Center Drive, Room 2W908 Rockville, MD, 20850 which was published in the Federal Register on June 17, 2013, 78FR36201.

This notice is being amended to change the meeting format from a face to face meeting to a teleconference. Also the meeting date and time are now 10:30 a.m. to 12:00 p.m. on August 12, 2013. The meeting is closed to the public.

Dated: July 9, 2013.
David Clary,
Program Analyst, Office of Federal Advisory Committee Policy.

[FR Doc. 2013-16791 Filed 7-12-13; 8:45 am]

BILLING CODE 4140-01-P